DEPARTMENT OF TRANSPORTATION

Federal Aviation Administration

14 CFR Part 39

[Docket No. 2002-NM-271-AD; Amendment 39-12970; AD 2002-24-05]

RIN 2120-AA64

Airworthiness Directives; Boeing Model 727 Series Airplanes

AGENCY: Federal Aviation Administration, DOT.

ACTION: Final rule; correction.

SUMMARY: This document corrects a typographical error that appeared in airworthiness directive (AD) 2002-24-05 that was published in the Federal Register on December 3, 2002 (67 FR 71808). The typographical error resulted in identification of certain airplanes in the applicability of the AD as having serial numbers instead of line numbers. This AD is applicable to certain Boeing Model 727 series airplanes. This AD requires detailed inspections to detect cracking and corrosion of the upper chord of the rear spar of the wing; and repair, if necessary. This action also requires detailed inspections to detect and permanently repair any cracking that has been previously repaired by stop-drilling.

DATES: Effective December 18, 2002.

FOR FURTHER INFORMATION CONTACT: Ivan Li, Aerospace Engineer, Airframe Branch, ANM-120S, FAA, Seattle Aircraft Certification Office, 1601 Lind Avenue, SW., Renton, Washington, 98055-4056; telephone (425) 227-2131; fax (425) 227-1181.

SUPPLEMENTARY INFORMATION: Airworthiness Directive (AD) 2002-24-05, amendment 39-12970, applicable to certain Boeing Model 727 series airplanes, was published in the Federal Register on December 3, 2002 (67 FR 71808). That AD requires detailed inspections to detect cracking and corrosion of the upper chord of the rear spar of the wing; and repair, if necessary. That AD also requires detailed inspections to detect and permanently repair any cracking that has been previously repaired by stop-drilling.

As published, the applicability section of the AD specifies, “Model 727 series airplanes, serial numbers 1 through 1832 inclusive; certificated in any category.” Identification of the airplanes was inadvertently specified as “serial numbers 1 through 1832 inclusive.” The correct identification if “line numbers 1 through 1832 inclusive.”

Since no other part of the regulatory information has been changed, the final rule is not being republished in the Federal Register.

The effective of this AD remains December 18, 2002.

§ 39.13 [Corrected]

On page 71809, in the third column, “Applicability” of AD 2002-24-05 is corrected to read as follows:

* * * * *

“Applicability: Model 727 series airplanes, line numbers 1 through 1832 inclusive; certificated in any category.”

* * * * *

Issued in Renton, Washington, on December 23, 2002.
Vi L. Lipski,
Manager, Transport Airplane Directorate, Aircraft Certification Service.

[FR Doc. 02-32882 Filed 12-31-02; 8:45 am]

BILLING CODE 4910-13-U